DEPARTMENT OF DEFENSE

Department of the Air Force

[Docket ID: USAF-2024-HQ-0003]

Proposed Collection; Comment Request

AGENCY: Department of the Air Force, Department of Defense (DoD).

ACTION: 60-Day information collection notice.

SUMMARY: In compliance with the Paperwork Reduction Act of 1995, the Department of the Air Force announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by May 28, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments,/please write to United States Air Force Academy Admissions, 2304 Cadet Drive USAFA CO 80840, Steven Warner, 719-333-3070, RROI_List@AFAcademy.AF.EDU.

SUPPLEMENTARY INFORMATION:

Title; Associated Form; and OMB Number: USAFA Admissions Procedures; OMB Control Number 0701-AFAA.

Needs and Uses: USAFA Admissions Procedures implement the provisions of title 10 U.S.C. 9446. Information collection is necessary to evaluate background and aptitude for commissioned service. Data collected includes candidate's participation in extracurricular activities, family and personal background, and academic background. USAFA must also collect information necessary to verify eligibility for admission. Information collected allows the Admissions Committee to evaluate the “whole person” concept. Without this information it would be difficult to accurately determine if an initial applicant would be qualified to enter the candidate phase of the admissions process. It would also be difficult to accurately determine a candidate's leadership and academic abilities. Finally, USAFA Faculty would not be able to determine course entry programming for the cadet to succeed. Respondents are high school graduates and General Educational Development equivalent who are applying to USAFA. Acceptance is determined using the information provided by the students. There are multiple sections associated with this information collection. The information collected in these sections is required by title 10 U.S.C. 9446 and used by USAFA officials to select appointees to the Academy.

Affected Public: Individuals or households.

Annual Burden Hours: 183,333.

Number of Respondents: 50,000.

Responses per Respondent: 1.

Annual Responses: 50,000.

Average Burden per Response: 220 minutes.

Frequency: Annually.

Dated: March 19, 2024.
Aaron T. Siegel,
Alternate OSD Federal Register Liaison Officer, Department of Defense.

[FR Doc. 2024-06378 Filed 3-25-24; 8:45 am]

BILLING CODE 6001-FR-P